DEPARTMENT OF LABOR

Occupational Safety and Health Administration

[Docket No. ICR-1218-0101(2000)]

1,2-dibromo-3-chloropropane (DBCP); Extension of the Office of Management of Budget's (OMB Approval of Information Collection (Paperwork) Requirements

AGENCY: Occupational Safety and Health Administration (OSHA); Labor.

ACTION: Notice of an opportunity for public comment.

SUMMARY: OSHA solicits comments concerning the extension of the information collection requirements contained in the DBCP Standard 929 CFR 1910.1044).

Request For Comment

The Agency is particularly interested in comments on the following issues:

• Whether the information collection requirements are necessary for the proper performance of the Agency's functions, including whether the information is useful;

• The accuracy of the Agency's estimate of the burden (time and costs) of the information collection requirements, including the validity of the methodology and assumptions used;

• The quality, utility, and clarity of the information collected; and

• Ways to minimize the burden on employers who must comply; for example, by using automated or other technological information-collection and -transmission techniques.

DATE: Submit written comments on or before May 1, 2000.

ADDRESSES: Submit written comments to the Docket Office, Docket No. ICR-1218-0101(2000), Occupational Safety and Health Administration, U.S. Department of Labor, Room N-2625, 200 Constitution Avenue, NW, Washington, DC 20210; telephone: (202) 693-2350. Comments may transmit written comments of 10 pages or less in length by facsimile to (202) 693-1648.

FOR FURTHER INFORMATION CONTACT: Todd R. Owen, Directorate of Policy, Occupational Safety and Health Administration, U.S. Department of Labor, Room N-3641, 200 Constitution Avenue, NW, Washington, DC 20210; telephone: (202) 693-2444. A copy of the Agency's Information Collection Request (ICR) supporting the need for the information collection requirements in the DBCP Standard is available for inspection and copying in the Docket Office, or you may request a mailed copy by telephoning Todd R. Owen at (202) 693-2444. For electronic copies of the ICR on the DBCP Standard, contact OSHA on the Internet at http:/www.osha.gov.

SUPPLEMENTARY INFORMATION:

I. Background

The Department of Labor, as part of its continuing effort to reduce paperwork and respondent burden, conducts a preclearance consultation program to provide the general public and Federal agencies with an opportunity to comment on proposed and continuing information collection requirements in accordance with the Paperwork Reduction Act of 1995 (PRA-95)(44 U.S.C. 3506(c)(2)(A)). This program ensures that information is in the desired format, reporting burden (time and costs) is minimal, collection instruments clearly understood, and OSHA's estimate of the information burden is correct. The Occupational Safety and Health Act of the 1970 (the Act) authorizes information collection by employers as necessary or appropriate for enforcement of the Act or for developing information regarding the causes and prevention of occupational injuries, illnesses, and accidents (29 U.S.C. 657).

The information collection requirements in the DBCP Standard provide protection for employees from the adverse health effects associated with exposure to DBCP. In this regard, the DBCP Standard requires employers to monitor employees' exposure to DBCP, monitor employee health, and provide employees with information about their exposures and the health effects of exposure to DBCP.

II. Proposed Actions

OSHA proposes to extend the OMB approval of the collection of information (paperwork) contained in the DBCP Standard (29 CFR 1910.1044). OSHA will summarize the comments submitted in response to this notice, and will include this summary in the request to OMB to extend the approval of the information collection requirements contained in the DBCP Standard (29 CFR 1910.1044).

Type of Review: Extension of currently approved information collection requirements.

Title: 1,2-dibromo-3-chloropropane Standard.

OMB Number: 1218-0101.

Affected Public: Business or other for-profit; Federal government; state, local or tribal government.

Number of Respondents: 1.

Frequency: On occasion.

Estimated Total Burden Hours: 1.

III. Authority and Signature

Charles N. Jeffress, Assistant Secretary of Labor for Occupational Safety and Health, directed the preparation of this notice. The authority for this notice is the Paperwork Reduction Act of 1995 (44 U.S.C. 3506) and Secretary of Labor's Order No. 6-96 (62 FR 111).

Signed at Washington, D.C., on February 24, 2000.
Charles N. Jeffress,
Assistant Secretary of Labor.

[FR Doc. 00-4868 Filed 2-29-00; 8:45 am]

BILLING CODE 4510-26-M